DEPARTMENT OF HOUSING AND URBAN DEVELOPMENT

[Docket No. FR-5708-D-01]

Redelegation of Authority to Regional Public Housing Directors and Public Housing Field Office Directors

AGENCY: Office of the Assistant Secretary for Public and Indian Housing, HUD.

ACTION: Notice of redelegation of authority.

SUMMARY: Section 7(d) of the Department of Housing and Urban Development Act, as amended, authorizes the Secretary to delegate functions, powers, and duties as the Secretary deems necessary. By Federal Register notice published August 4, 2011, the Secretary delegated to the Assistant Secretary for Public and Indian Housing and the General Deputy Assistant Secretary for Public and Indian Housing authority for the administration of HUD's Public and Indian Housing (PIH) programs, and authorized the Assistant Secretary to further redelegate such authority. In this notice, the Assistant Secretary redelegates authority through the General Deputy Assistant Secretary to the Regional Public Housing Directors and PIH Field Office Directors to approve Section 30 mortgage or security interests in a public housing project or other public housing agency (PHA) property, as described in this redelegation of authority, in the approval of Energy Performance Contracts.

DATES: Effective Date: May 1, 2013.

FOR FURTHER INFORMATION CONTACT: Linda Bronsdon, AICP, Program Analyst, Office of Policy, Program and Legislative Initiatives, Office of Public and Indian Housing, Department of Housing and Urban Development, 490 L'Enfant Plaza, Suite 2206, Washington, DC 20024, email address Linda.K.Bronsdon@hud.gov, telephone number 202-402-3494. (This is not a toll-free number.) This number may be accessed through TTY by calling the toll-free Federal Relay Service at telephone number 1-800-877-8339.

SUPPLEMENTARY INFORMATION: As described in the Summary section of this notice, on August 4, 2011 (76 FR 47224), the Secretary delegated authority for the administration of PIH programs to the Assistant Secretary for PIH and the General DAS for PIH. In a separate notice also published on August 4, 2011 (76 FR 47229), these two officials redelegated certain aspects of their authority to Regional Public Housing Directors. Included in the redelegated authority to the Regional Public Housing Directors was concurrent approval authority for energy performance contracts (EPC). In today's redelegation of authority, the Assistant Secretary for PIH redelegates authority through the General Deputy Assistant Secretary for PIH, to the Regional Public Housing Directors and the PIH Field Office Directors to approve mortgage or security interests, as provided under section 30 of the United States Housing Act of 1937, in the approval of EPCs. To the extent that today's notice redelegates authority to add an approval authority for EPC reviews, this notice supersedes the August 4, 2011, redelegation of authority.

Section A. Authority Redelegated

Authority is hereby redelegated by the Assistant Secretary, through the General Deputy Assistant Secretary for PIH, to Regional Public Housing Directors and Public Housing Field Office Directors for reviews and approvals of EPCs that may include approvals of security interests under section 30 of the United States Housing Act of 1937, (1937 Act), as amended, (42 U.S.C. 1437z-2). The Quality Housing and Work Responsibility Act of 1998 (QHWRA) (Pub. L. 105-276, October 21, 1998) added section 30 to the 1937 Act. Pursuant to section 30 and subject to HUD approval, a PHA may mortgage or grant a security interest in any public housing project or other property of the PHA (e.g., its public housing real property or other (personal) property (e.g., bank accounts or energy conservation improvements) and may mortgage or otherwise encumber such property covered by the 1937 Act that it owns.

HUD reviews EPCs under the authority of section 9(e) of the 1937 Act. If an EPC proposal also requires a section 30 approval, the Regional Public Housing Director or Public Housing Field Office Director shall review the section 30 request along with the EPC proposal review. For mixed finance projects with EPCs requiring section 30 approval, the review and approval is part of the mixed finance evidentiary process and involves Declarations of Restrictive Covenants (DORCs). The imposition of a mortgage or security interest requires a legal opinion from the Office of General Counsel that the mortgage or security interest does not supersede or encumber the Declaration of Trust or DORCs as applicable.

Section B. Excepted Authority That Remains With the Secretary, Assistant Secretary, or Deputy Assistant Secretaries

Today's redelegation of authority does not amend Sections A, C, or D of the August 4, 2011, redelgation of authority.

Section C. Authority to Further Redelegate

The authority redelegated by Section A of today's notice may be further redelegated, as appropriate, by Regional Public Housing Directors or Public Housing Field Office Directors to Public Housing Hub Directors, Program Center Coordinators, and other ranking program officials on site or out-stationed in accordance with a written redelegation of authority. Such subsequent redelegations may follow the format presented herein or may be a memorandum stating that specific authority is hereby designated. Time limits for such any further redelegated authority may be added.

Section D. Authority Superseded

To the extent that today's notice redelegates authority to add an approval authority for EPC reviews, this notice supersedes the August 4, 2011, redelegation of authority.

Section E. Consultation and Coordination With the General Counsel

The Assistant Secretary for PIH, the General Deputy Assistant Secretary, Deputy Assistant Secretaries, Regional Public Housing Directors and all others covered by this redelegation shall consult with the General Counsel, as required and, when required, such consultation shall be in accordance with such protocols as administratively agreed to by the General Counsel and the Assistant Secretary for PIH or the General Deputy Assistant Secretary. This consolidated delegation of authority is to be exercised consistently with the delegation from the Secretary to the General Counsel.

Authority: Section 7 (d) of the Department of Housing and Urban Development Act, as amended, (42 U.S.C. 3535(d)).

Dated: May 1, 2013.
Sandra B. Henriquez,
Assistant Secretary for Public and Indian Housing.

[FR Doc. 2013-10864 Filed 5-6-13; 8:45 am]

BILLING CODE 4210-67-P